DEPARTMENT OF COMMERCE

National Oceanic and Atmospheric Administration

50 CFR Part 660

[Docket No. 230626-0156]

RIN 0648-BM14

Fisheries Off West Coast States; Pelagic Species Fisheries; Amendment 20 to the Coastal Pelagic Species Fishery Management Plan

AGENCY: National Marine Fisheries Service (NMFS), National Oceanic and Atmospheric Administration (NOAA), Commerce.

ACTION: Final rule.

SUMMARY: This final rule announces approval of and implements Amendment 20 to the Coastal Pelagic Species (CPS) Fishery Management Plan (FMP). Amendment 20 removes management category terminology from use in the FMP, but does not revise the manner in which the CPS stocks are managed. The Pacific Fishery Management Council (Council) recommended Amendment 20 for clarity and consistency with other Council FMPs. This final rule removes the definition for “Actively Managed Species” and a reference to “monitored stocks” from Federal regulations. Because this action does not change the manner in which CPS stocks are managed, this action is administrative in nature.

DATES: This rule is effective August 2, 2023.

FOR FURTHER INFORMATION CONTACT: Taylor Debevec at (562) 980-4066 or taylor.debevec@noaa.gov.

SUPPLEMENTARY INFORMATION:

Background

This final rule concurrently announces approval of and implements Amendment 20 to the CPS FMP. The CPS FMP has used the Management Categories of “Active” (or Actively) and “Monitored” to effectively and efficiently direct available agency and Council resources, in recognition that not all stocks require as intensive management as others, e.g., frequency of assessments and changes to harvest levels. However, the Council initiated an effort to address a perceived lack of clarity regarding the meaning and use of management category terms in the CPS FMP and to promote consistency with other Council FMPs. In April 2022, the Council took final action to recommend Amendment 20 to the CPS FMP to NMFS to remove management category terms from the FMP and incorporate additional modifications in place of those terms to ensure the flow and readability of the FMP. The intent of Amendment 20 is to improve clarity regarding the management approaches for stocks in the CPS FMP and to describe how each stock is managed in a stock-specific manner, rather than through use of a categorical assignment. Amendment 20 does not change the management approaches for stocks in the CPS FMP.

We published a notice of availability (NOA) for Amendment 20 on March 23, 2023 (88 FR 17515), with a comment period ending on May 8, 2023. We published a proposed rule to implement the Amendment 20 on April 6, 2023 (88 FR 20456), with a comment period ending on May 22, 2023. We considered all public comments received on the NOA and proposed rule. See Comments and Responses section for more information. Now, on behalf of the Secretary of Commerce, we are announcing the approval of Amendment 20 and issuing this final rule implementing Amendment 20, consistent with the review and approval process outlined in section 304(a) of the Magnuson-Stevens Fishery Conservation and Management Act, 16 U.S.C. 1801 et seq. Specifically, this final rule implements the following regulatory revisions, which are unchanged from the proposed rule: removal of the definition of “Actively Managed Species” from 50 CFR 660.502; and removal of the term “monitored stocks” from 50 CFR 660.511(k). The NOA and proposed rule for this action included additional background and details, which are not repeated here. For additional information on this action, please refer to the NOA (88 FR 17515 March 23, 2023) and proposed rule (88 FR 20456 April 6, 2023).

Comments and Responses

NMFS received two public comments—one was from an anonymous submitter and the other was a joint comment from Oceana and Earthjustice. The anonymous submitter supported the action. Oceana and Earthjustice raised other unrelated topics that they believe are issues with the FMP, having to do with the management of the central subpopulation of northern anchovy. Because the Oceana/Earthjustice comment was outside the scope of this action, we have not provided a response. After considering the public comments, NMFS made no changes from the proposed rule.

Classification

Pursuant to section 304(b)(1)(A) of the Magnuson-Stevens Fishery Conservation and Management Act, the Assistant Administrator, NMFS, has determined that this final rule is consistent with the CPS FMP, other provisions of the Magnuson-Stevens Fishery Conservation and Management Act, and other applicable law.

This final rule has been determined to be not significant for purposes of Executive Order 12866.

The Chief Counsel for Regulation of the Department of Commerce certified to the Chief Counsel for Advocacy of the Small Business Administration during the proposed rule stage that this action would not have a significant economic impact on a substantial number of small entities for the purposes of the Regulatory Flexibility Act. The factual basis for the certification was published in the proposed rule (88 FR 20456, April 6, 2023) and is not repeated here. As a result, a final regulatory flexibility analysis was not required and none was prepared.

This action does not contain a collection-of-information requirement for purposes of the Paperwork Reduction Act. There are no relevant Federal rules that may duplicate, overlap, or conflict with the final action.

List of Subjects in 50 CFR Part 660

Fisheries, Fishing, Indians-lands, Recreation and recreation areas, Reporting and record keeping requirements, Treaties.

Dated: June 27, 2023.
Samuel D. Rauch, III,
Deputy Assistant Administrator for Regulatory Programs, National Marine Fisheries Service.

For the reasons set out in the preamble, NMFS amends 50 CFR part 660 as follows:

PART 660—FISHERIES OFF WEST COAST STATES

1. The authority citation for part 660 continues to read as follows:

Authority: 16 U.S.C. 1801 et seq., 16 U.S.C. 773 et seq., and 16 U.S.C. 7001 et seq.

§ 660.502 [Amended]

2. In § 660.502, remove the definition “Actively managed species”.

3. In § 660.511, revise paragraph (k) to read as follows:

§ 660.511 Catch restrictions.

* * * * *

(k) The following annual catch limit applies to fishing for Northern Anchovy (Central Subpopulation): 25,000 mt.

[FR Doc. 2023-14009 Filed 6-30-23; 8:45 am]

BILLING CODE 3510-22-P